DEPARTMENT OF HEALTH AND HUMAN SERVICES

Centers for Disease Control and Prevention

Board of Scientific Counselors, Center for Preparedness and Response

AGENCY: Centers for Disease Control and Prevention (CDC), Department of Health and Human Services (HHS).

ACTION: Notice of meeting.

SUMMARY: In accordance with regulatory provisions, the Centers for Disease Control and Prevention (CDC) announces the following meeting for the Board of Scientific Counselors, Center for Preparedness and Response (BSC, CPR). This is a hybrid meeting, accessible both in person and virtually. It is open to the public and limited only by the space available and the number of internet conference accesses available. Time will be available for public comment.

DATES: The meeting will be held on March 30, 2023, from 9 a.m. to 3 p.m., EDT.

ADDRESSES: Centers for Disease Control and Prevention, Building 19, Auditorium B3, 1600 Clifton Road NE, Atlanta, Georgia 30329-4027. The conference room will have seating for approximately 40 people.

Please note that the meeting location is a federal facility and in-person access is limited to United States citizens unless prior authorizations, taking up to 30 to 60 days, have been made. Visitors must follow all directions for access to CDC facilities. Directions for visitors to CDC, including safety requirements related to COVID-19, are available at https://www.cdc.gov/screening/visitors.html.

If you wish to attend in person, please submit a request by email to Ms. Dometa Ouisley at DOuisley@cdc.gov at least 5 business days in advance of the meeting.

If you wish to attend the meeting virtually, please register by accessing the link at: https://cdc.zoomgov.com/webinar/register/WN_SFaFlNxBQtK3_Sux-5KfJw. Instructions to access the Zoom virtual meeting will be provided in the link following registration.

FOR FURTHER INFORMATION CONTACT: Dometa Ouisley, Public Health Analyst, Office of Science and Public Health Practice, Office of Readiness and Response, CDC, 1600 Clifton Road NE, Mailstop H21-6, Atlanta, Georgia 30329-4027; Telephone: (404) 639-7450; Email: DOuisley@cdc.gov.

SUPPLEMENTARY INFORMATION:

Purpose: The Board of Scientific Counselors, Center for Preparedness and Response (BSC, CPR) is charged with providing advice and guidance to the Secretary, HHS; the Assistant Secretary for Health; the Director, CDC; and the Director, CPR, concerning strategies and goals for the programs and research within the agency and CPR; monitoring the overall strategic direction and focus of the CPR Divisions and Offices; and administration and oversight of peer review for CPR scientific programs. For additional information about the Board, please visit: https://www.cdc.gov/cpr/bsc/index.htm.

Matters To Be Considered: The agenda will include discussion on: (1) Organizational Update; (2) Office of Policy, Planning, and Evaluation Update; (3) CDCReady Responder Update; (4) Health Equity Updates; (5) Data Modernization Update; and (6) Liaison Representative Updates. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04238 Filed 3-1-23; 8:45 am]

BILLING CODE 4163-18-P